DEPARTMENT OF STATE

[Public Notice: 12652]

Notice of Postponement of Meeting of the Cultural Property Advisory Committee

SUMMARY: This Notice announces the postponement of a previously announced Cultural Property Advisory Committee meeting.

DATES: The meeting of the Cultural Property Advisory Committee scheduled for February 4-6, 2025 is postponed.

FOR FURTHER INFORMATION CONTACT: Allison R. Davis Lehmann, Cultural Heritage Center, Bureau of Educational and Cultural Affairs: email: culprop@state.gov, telephone: 202-904-0878.

SUPPLEMENTARY INFORMATION: The meeting of the Cultural Property Advisory Committee scheduled for February 4-6, 2025, at the Department of State to review a request from the Government of the Socialist Republic of Vietnam seeking import restrictions on archaeological and ethnological materials, the proposed extension of the agreement with the Government of the Republic of Chile, the proposed extension of the agreement with the Government of the Italian Republic, and the proposed extension of the agreement with the Government of the Kingdom of Morocco has been postponed. The meeting will be re-scheduled, and a new notice will be published in the Federal Register. The original notice was published on December 30, 2024, FR Doc. 2024-31255, at 89 FR 106722.

Allison R. Davis Lehmann,
Executive Director, Cultural Property Advisory Committee, Department of State.

[FR Doc. 2025-02347 Filed 2-6-25; 8:45 am]

BILLING CODE 4710-05-P